DEPARTMENT OF HOUSING AND URBAN DEVELOPMENT

[Docket No. FR-5037-N-69]

Notice of Submission of Proposed Information Collection to OMB; Application for the Transfer of Physical Assets

Correction

In notice document E6-16716 beginning on page 59805 in the issue of Wednesday, October 11, 2006, make the following correction:

On page 59806, in the first column, under the heading DATES, “October 11, 2006” should read “November 13, 2006”.

[FR Doc. Z6-16716 Filed 10-17-06; 8:45 am]

BILLING CODE 1505-01-D